DEPARTMENT OF THE INTERIOR

National Park Service

[NPS-IMR-CHIR-15590; PPIMCHIR00 PPMPSPD1Z.YM0000]

Minor Boundary Revision at Chiricahua National Monument

AGENCY: National Park Service, Interior.

ACTION: Notification of Boundary Revision.

SUMMARY: The boundary of Chiricahua National Monument is modified to include 40 acres of land located in Cochise County, Arizona, immediately adjacent to the western boundary of Chiricahua National Monument. Subsequent to the proposed boundary revision, the United States will acquire the land by purchase from The Trust for Public Land, a nonprofit conservation organization.

DATES: The effective date of this boundary revision is August 14, 2014.

ADDRESSES: The map depicting this boundary revision is available for inspection at the following locations: National Park Service, Land Resources Program Center, Intermountain Region, 12795 West Alameda Parkway, Denver, Colorado 80228 and National Park Service, Department of the Interior, 1849 C Street NW., Washington, DC 20240.

FOR FURTHER INFORMATION CONTACT: Chief Realty Officer Glenna Vigil, National Park Service, Land Resources Program Center, Intermountain Region, 12795 West Alameda Parkway, Denver, Colorado 80228, telephone (303) 969-2610.

SUPPLEMENTARY INFORMATION: Notice is hereby given that, pursuant to 16 U.S.C. 460l-9(c)(1), the boundary of Chiricahua National Monument is modified to include 40 acres of land identified as Tract 01-130, tax parcel number 304-35-019-06-0. This land is located in Cochise County, Arizona, immediately adjacent to the western boundary of Chiricahua National Monument. The boundary revision is depicted on Map No. 145/117,588, dated November 9, 2012.

16 U.S.C. 460l-9(c)(1) provides that, after notifying the House Committee on Natural Resources and the Senate Committee on Energy and Natural Resources, the Secretary of the Interior is authorized to make this boundary revision upon publication of notice in the Federal Register. The Committees have been notified of this boundary revision. This boundary revision and subsequent acquisition will ensure preservation and protection of the monument's scenic and historic resources.

Dated: April 14,2014.
Sue E. Masica,
Regional Director, Intermountain Region.

[FR Doc. 2014-19230 Filed 8-13-14; 8:45 am]

BILLING CODE 4312-CB-P